DEPARTMENT OF HOUSING AND URBAN DEVELOPMENT

[Docket No. FR-5544-D-07]

Redelegation of Fair Housing Assistance Program Authority

AGENCY: Office of the Assistant Secretary for Fair Housing and Equal Opportunity, HUD.

ACTION: Notice of redelegation of authority.

SUMMARY: In this notice, the Assistant Secretary for Fair Housing and Equal Opportunity (FHEO) supersedes all prior redelegations of authority made within the Office of the Assistant Secretary for FHEO under the Fair Housing Assistance Program with the exception of redelegation of authority to the FHEO Region Directors, as set forth in 24 CFR 115.101(b). The Assistant Secretary for FHEO redelegates the authority in 24 CFR 115.101(b) and other authority, as set forth in this notice, to the General Deputy Assistant Secretary.

DATES: Effective Date: November 16, 2011.

FOR FURTHER INFORMATION CONTACT: Sara K. Pratt, Deputy Assistant Secretary for Enforcement and Programs, Office of Fair Housing and Equal Opportunity, Department of Housing and Urban Development, 451 Seventh Street SW., Room 5204, Washington, DC 20410-0001, telephone (202) 402-6322. (This is not a toll-free number.) Hearing- and speech-impaired individuals may access this number through TTY by calling the toll-free Federal Relay Service at (800) 877-8339.

SUPPLEMENTARY INFORMATION: Through regulation (24 CFR 115.101(a)), the Secretary delegated the authority and responsibility for administering the Fair Housing Assistance Program, as provided in 24 CFR part 115, to the Assistant Secretary for FHEO. Also through regulation (24 CFR 115.101(b)), the Assistant Secretary for FHEO retained and redelegated this authority to each FHEO Region Director. Through this notice, the Assistant Secretary for FHEO retains and redelegates this authority to the General Deputy Assistant Secretary for FHEO.

Section A. Authority Redelegated

The Assistant Secretary for FHEO retains and redelegates the authority and responsibility for administering the Fair Housing Assistance Program, as provided in 24 CFR part 115 subparts A, B and C, to the General Deputy Assistant Secretary for FHEO with the exception of issuing and waiving regulations.

The General Deputy Assistant Secretary retains and redelegates the authority and responsibility for administering the Fair Housing Assistance Program, as provided in 24 CFR part 115 subparts A, B and C, with, the exception of making final decisions concerning the granting and maintenance of substantial equivalency certification and interim certification in 24 CFR part 115, subpart B, to the Deputy Assistant Secretary for Enforcement and Programs, the Director of the Office of Enforcement, and FHEO Region Directors.

Section B. Authority To Further Redelegate

The General Deputy Assistant Secretary for FHEO may redelegate the authority provided in Section A of this notice. The Deputy Assistant Secretary for Enforcement and Programs, the Director of the Office of Enforcement and FHEO Region Directors may not redelegate the authority provided in Section A of this notice.

All prior redelegations of authority made within the Office of the Assistant Secretary for FHEO to administer the Fair Housing Assistance Program are superseded with the exception of the delegation of authority set forth in 24 CFR 115.101(b).

Authority: Section 7(d), Department of Housing and Urban Development Act (42 U.S.C. 3535(d)).

Dated: November 16, 2011.
John Trasviña,
Assistant Secretary for Fair Housing and Equal Opportunity.
Bryan Greene,
General Deputy Assistant Secretary for Fair Housing and Equal Opportunity.

[FR Doc. 2011-30761 Filed 11-28-11; 8:45 am]

BILLING CODE 4210-67-P